DEPARTMENT OF HEALTH AND HUMAN SERVICES

Administration for Children and Families

Submission for OMB Review; Temporary Assistance for Needy Families (TANF) Financial Report, ACF-196T (OMB #0970-0345)

AGENCY: Office of Family Assistance, Administration for Children and Families, U.S. Department of Health and Human Services.

ACTION: Request for public comments.

SUMMARY: The Administration for Children and Families (ACF) is requesting a 3-year extension of the Temporary Assistance for Needy Families (TANF) Financial Report, Form ACF-196T (Office of Management and Budget (OMB) #0970-0345, expiration April 30, 2023). ACF is proposing minor updates to the form to remove a reporting line-item reference that was associated with an expired program expenditure and minor edits to the instructions and formatting to better the presentation of the document.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Grantees of the TANF program are required by statute to report financial data on a quarterly basis. Form ACF-196T is used by tribal agencies administering the TANF program to report these quarterly expenditure data and to request quarterly grant funds. Failure to collect the data would seriously compromise the Office of Family Assistance and ACF's ability to monitor TANF expenditures and compliance with statutory requirements. These data are also needed to estimate outlays and to prepare reports and budget submissions for Congress.

Respondents: Tribal agencies receiving a direct grant from OFA to administer a TANF program.

Annual Burden Estimates
Instrument | Total number of respondents | Annual number of responses per respondent | Average burden hours per response | Annual burden hours
TANF Financial Report, Form ACF-196T | 51 | 4 | 1.5 | 306

Estimated Total Annual Burden Hours: 306.

Authority: Social Security Act, Section 409 and 411; 45 CFR 286.245-286.285.

Mary B. Jones,
ACF/OPRE Certifying Officer.

[FR Doc. 2022-28423 Filed 12-29-22; 8:45 am]

BILLING CODE 4184-36-P